DEPARTMENT OF THE INTERIOR

Bureau of Ocean Energy Management

[MMAA104000]

Central Gulf of Mexico Planning Area (CPA) Outer Continental Shelf (OCS) Oil and Gas Lease Sale 231 (CPA Sale 231); Correction

AGENCY: Bureau of Ocean Energy Management (BOEM), Interior.

ACTION: Notice; correction.

SUMMARY: On February 14, 2014, BOEM published in the Federal Register the Final Notice of Sale (FNOS) for CPA Sale 231. The FNOS refers to a document entitled “List of Blocks Available for Leasing.” The referenced list was included in the FNOS Package, and the FNOS Package was made available at the BOEM address and Web site set forth in the FNOS. The list identifies blocks to be offered in CPA Sale 231; however, due to a clerical error, four blocks, Eugene Island Area, Block Number 107, Eugene Island Area, Block Number 222, Eugene Island Area, Block Number 223 and South Marsh Island Area, South Addition, Block Number 144, were inadvertently omitted from the list.

FOR FURTHER INFORMATION CONTACT: Robert Samuels, Leasing Division Chief, robert.samuels@boem.gov.

SUPPLEMENTARY INFORMATION: In the Federal Register of February 14, 2014, in FR Doc. 2014-03316, (79 FR 8993), on page 8993, the document entitled “List of Blocks Available for Leasing” is referenced. This document has been corrected to include the information below, which has been inserted between the entries “Eugene Island Area, Block Number 106” and “Eugene Island Area, Block Number 109,” “Eugene Island Area, Block Number 221” and “Eugene Island Area, Block Number 225,” and “South Marsh Island Area, South Addition, Block Number 143” and “South Marsh Island Area, South Addition, Block Number 145.”

L

Y

Y

Y

Y

Map/Official Protraction Diagram (OPD) Name

Eugene Island Area

Eugene Island Area

Eugene Island Area

South Marsh Island Area, South Addition

Map/OPD Number

LA4

LA4

LA4

LA3C

Block Number

107

222

223

144

A/P

A

A

A

A

Available Federal Acreage

5,000.000000

5,000.010000

5,000.020000

5,000.000000

Minimum Bid Per Acre

$25.00

$25.00

$25.00

$25.00

Lease Term

5

5

5

5

Minimum Bid Per Block

$125,000

$125,025

$125,025

$125,000

Rent Per Acre

$7.00

$7.00

$7.00

$7.00

Bid System

RS20

RS20

RS20

RS20

Stipulation(s)

3, 8

3, 8

3, 8

3, 8

The corrected “List of Blocks Available for Leasing” is available at the BOEM address and Web site set forth in the FNOS.

Dated: February 24, 2014.
Tommy P. Beaudreau,
Director, Bureau of Ocean Energy Management.

[FR Doc. 2014-04346 Filed 2-26-14; 8:45 am]

BILLING CODE 4310-MR-P